COMMITTEE FOR PURCHASE FROM PEOPLE WHO ARE BLIND OR SEVERELY DISABLED

Procurement List; Proposed Additions and Deletions; Correction

AGENCY: Committee for Purchase From People Who Are Blind or Severely Disabled.

ACTION: Notice; correction.

SUMMARY: The Committee for Purchase From People Who Are Blind or Severely Disabled published a document in the Federal Register of June 19, 2015, concerning a notice of intent to add NSN: 8105-00-NIB-1412—Aquapad Sand-less Sandbag to the Procurement List for the Department of Defense. The document contained the incorrect “Distribution:” information.

DATES: Comments must be received on or before July 20, 2015.

FOR FURTHER INFORMATION CONTACT: Barry S. Lineback, Telephone: (703) 603-2118.

Correction

In the Federal Register of June 19, 2015, in FR Doc. 2015-15121, on page 35320, in the third column, under 8105-00-NIB-1412—Aquapad Sand-less Sandbag. correct the Distribution: statement to read: Distribution: B-List.

Dated: June 23, 2015.
Barry S. Lineback,
Director, Business Operations.

[FR Doc. 2015-15704 Filed 6-25-15; 8:45 am]

BILLING CODE 6353-01-P